DEPARTMENT OF ENERGY

Federal Energy Regulatory Commission

Combined Notice of Filings #1

Take notice that the Commission received the following exempt wholesale generator filings:

Docket Numbers: EG16-33-000.

Applicants: Frontier Windpower, LLC.

Description: Notice of Self-Certification as an Exempt Wholesale Generator of Frontier Windpower, LLC.

Filed Date: 1/4/16.

Accession Number: 20160104-5439.

Comments Due: 5 p.m. ET 1/25/16.

Take notice that the Commission received the following electric rate filings:

Docket Numbers: ER13-415-004.

Applicants: Anahau Energy, LLC.

Description: Triennial market power update of Anahau Energy, LLC for Southwest region.

Filed Date: 12/31/15.

Accession Number: 20151231-5409.

Comments Due: 5 p.m. ET 2/29/16.

Docket Numbers: ER14-1832-001.

Applicants: Duke Energy Florida, LLC.

Description: Compliance filing: ROE Settlement Revised IA's (2014) to be effective 5/1/2014.

Filed Date: 12/21/15.

Accession Number: 20151221-5229.

Comments Due: 5 p.m. ET 1/11/16.

Docket Numbers: ER15-762-005; ER15-760-004; ER15-1579-003; ER15-1582-004; ER15-1914-005; ER15-2680-001; ER15-2679-001.

Applicants: Sierra Solar Greenworks LLC, Western Antelope Blue Sky Ranch A LLC, 67RK 8me LLC, 65HK 8me LLC, 87RL 8me LLC, Sandstone Solar LLC, Latigo Wind Park, LLC.

Description: Notice of Non-Material Change in Status of Sierra Solar Greenworks LLC, et al.

Filed Date: 1/4/16.

Accession Number: 20160104-5550.

Comments Due: 5 p.m. ET 1/25/16.

Docket Numbers: ER15-1196-005.

Applicants: Nevada Power Company.

Description: Compliance filing: OATT Energy Imbalance Market (Definitions-Sched 9-Attach P) to be effective 2/16/2016.

Filed Date: 1/4/16.

Accession Number: 20160104-5421.

Comments Due: 5 p.m. ET 1/25/16.

Docket Numbers: ER15-1429-002.

Applicants: Emera Maine.

Description: Compliance filing: Modify Record Content to be effective 6/1/2015.

Filed Date: 1/4/16.

Accession Number: 20160104-5438.

Comments Due: 5 p.m. ET 1/25/16.

Docket Numbers: ER15-1618-002.

Applicants: Duke Energy Florida, LLC.

Description: Compliance filing: ROE Settlement Revised IA's (2015) to be effective 5/1/2015.

Filed Date: 12/21/15.

Accession Number: 20151221-5260.

Comments Due: 5 p.m. ET 1/11/16.

Docket Numbers: ER15-1896-003.

Applicants: Eden Solar LLC.

Description: Notice of Non-Material Change in Status of Eden Solar, LLC.

Filed Date: 1/4/16.

Accession Number: 20160104-5551.

Comments Due: 5 p.m. ET 1/25/16.

Docket Numbers: ER15-1914-004.

Applicants: 87RL 8me LLC.

Description: Compliance filing: 87RL 8me LLC MBR Tariff to be effective 8/1/2015.

Filed Date: 11/18/15.

Accession Number: 20151118-5208.

Comments Due: 5 p.m. ET 1/26/16.

Docket Numbers: ER15-2231-001.

Applicants: Duke Energy Carolinas, LLC, Duke Energy Florida, LLC.

Description: Compliance filing: DEF ROE Settlement Filing to be effective 1/1/2015.

Filed Date: 12/21/15.

Accession Number: 20151221-5206.

Comments Due: 5 p.m. ET 1/11/16.

Docket Numbers: ER16-681-000.

Applicants: Eden Solar LLC.

Description: Tariff Cancellation: Eden Solar, LLC Notice of Cancellation to be effective 1/15/2016.

Filed Date: 1/4/16.

Accession Number: 20160104-5414.

Comments Due: 5 p.m. ET 1/25/16.

Docket Numbers: ER16-682-000.

Applicants: PacifiCorp.

Description: § 205(d) Rate Filing: OATT Revised Sections (EIM Available Balancing Capacity 2) to be effective 2/16/2016.

Filed Date: 1/4/16.

Accession Number: 20160104-5420.

Comments Due: 5 p.m. ET 1/25/16.

Take notice that the Commission received the following electric securities filings:

Docket Numbers: ES16-9-000.

Applicants: New York State Electric & Gas Corporation.

Description: Amendment to December 10, 2015 Application for Authorization to Issue Short Term Debt of New York State Electric & Gas Corporation.

Filed Date: 12/24/15.

Accession Number: 20151224-5073.

Comments Due: 5 p.m. ET 1/14/16.

Docket Numbers: ES16-10-000.

Applicants: Rochester Gas & Electric Corporation.

Description: Amendment to December 10, 2015 Application for Authorization to Issue Short Term Debt of Rochester Gas and Electric Corporation.

Filed Date: 12/24/15.

Accession Number: 20151224-5074.

Comments Due: 5 p.m. ET 1/14/16.

Docket Numbers: ES16-12-000.

Applicants: Kansas Gas and Electric Company.

Description: Supplement to December 11, 2015 Application under Section 204 of the Federal Power Act of Kansas Gas and Electric Company.

Filed Date: 12/23/15.

Accession Number: 20151223-5100.

Comments Due: 5 p.m. ET 1/13/16.

Docket Numbers: ES16-13-000.

Applicants: Kansas Gas and Electric Company.

Description: Supplement to December 11, 2015 Application under Section 204 of the Federal Power Act of Kansas Gas and Electric Company.

Filed Date: 12/23/15.

Accession Number: 20151223-5099.

Comments Due: 5 p.m. ET 1/13/16.

Take notice that the Commission received the following foreign utility company status filings:

Docket Numbers: FC13-8-000.

Applicants: Ituiutaba Bioenergia Ltda.

Description: Notification of Non-Material Change in Status of BP Bioenergia Ituiutaba Ltda.

Filed Date: 1/4/16.

Accession Number: 20160104-5546.

Comments Due: 5 p.m. ET 1/25/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2016.
Nathaniel J. Davis, Sr.,
Deputy Secretary.

[FR Doc. 2016-00282 Filed 1-8-16; 8:45 am]

BILLING CODE 6717-01-P